DEPARTMENT OF HOMELAND SECURITY

Federal Emergency Management Agency

[Docket ID FEMA-2024-0002; Internal Agency Docket No. FEMA-B-2450]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Nicholas A. Shufro,
Assistant Administrator (Acting) for Risk Management, Federal Emergency Management Agency, Department of Homeland Security.

State and county | Location and case No. | Chief executive officer of community | Community map repository | Online location of letter of map revision | Date of modification | Community No.
Colorado:
Boulder | City of Boulder (24-08-0273X). | The Honorable Aaron Brockett, Mayor, City of Boulder, 1777 Broadway, Boulder, CO 80302. | City Hall, 1777 Broadway, Boulder, CO 80302. | https://msc.fema.gov/portal/advanceSearch. | Oct. 3, 2024 | 080024
DC:
Washington, DC | District of Columbia, (23-03-0825P). | The Honorable Muriel Bowser, Mayor, District of Columbia, 1350 Pennsylvania Avenue, Northwest, Washington, DC 20004. | Department of Energy and Environment, 1200 1st Street Northeast, 5th Floor, Washington, DC 20002. | https://msc.fema.gov/portal/advanceSearch. | Sep. 25, 2024 | 110001
Florida:
Broward | City of Plantation, (24-04-0898P). | The Honorable Nick Sortal, Mayor, City of Plantation, 400 Northwest 73rd Avenue, Plantation, FL 33317. | City Hall, 400 Northwest 73rd Avenue, Plantation, FL 33317. | https://msc.fema.gov/portal/advanceSearch. | Oct. 15, 2024 | 120054
Lake | City of Leesburg, (23-04-6313P). | Al Minner, Manager, City of Leesburg, P.O. Box 490630, Leesburg, FL 34749. | Planning and Zoning Department, 204 North 5th Street, Leesburg, FL 34748. | https://msc.fema.gov/portal/advanceSearch. | Oct. 28, 2024 | 120136
Lake | City of Leesburg, (24-04-0439P). | Al Minner, Manager, City of Leesburg, P.O. Box 490630, Leesburg, FL 34749. | Planning and Zoning Department, 204 North 5th Street, Leesburg, FL 34748. | https://msc.fema.gov/portal/advanceSearch. | Oct. 30, 2024 | 120136
Manatee | Unincorporated areas of Manatee County, (24-04-4428P). | Charlie Bishop, Manatee County Administrator, 1112 Manatee Avenue West, Bradenton, FL 34205. | Manatee County Administration Building, 1112 Manatee Avenue West, Bradenton, FL 34205. | https://msc.fema.gov/portal/advanceSearch. | Oct. 16, 2024 | 120153
Manatee | Unincorporated areas of Manatee County, (24-04-4432P). | Charlie Bishop, Manatee County Administrator, 1112 Manatee Avenue West, Bradenton, FL 34205. | Manatee County Administration Building, 1112 Manatee Avenue West, Bradenton, FL 34205. | https://msc.fema.gov/portal/advanceSearch. | Oct. 16, 2024 | 120153
Manatee | Unincorporated areas of Manatee County, (24-04-4434P). | Charlie Bishop, Manatee County Administrator, 1112 Manatee Avenue West, Bradenton, FL 34205. | Manatee County Administration Building, 1112 Manatee Avenue West, Bradenton, FL 34205. | https://msc.fema.gov/portal/advanceSearch. | Oct. 10, 2024 | 120153
Monroe | Unincorporated areas of Monroe County, (24-04-1868P). | The Honorable Holly Merrill Raschein, Mayor, Monroe County Board of Commissioners, 102050 Overseas Highway, Suite 234, Key Largo, FL 33037. | Monroe County Building Department, 2798 Overseas Highway, Suite 300, Marathon, FL 33050. | https://msc.fema.gov/portal/advanceSearch. | Oct. 25, 2024 | 125129
Monroe | Unincorporated areas of Monroe County, (24-04-2924P). | The Honorable Holly Merrill Raschein, Mayor, Monroe County Board of Commissioners, 102050 Overseas Highway, Suite 234, Key Largo, FL 33037. | Monroe County Building Department, 2798 Overseas Highway, Suite 300, Marathon, FL 33050. | https://msc.fema.gov/portal/advanceSearch. | Nov. 1, 2024 | 125129
Monroe | Village of Islamorada, (24-04-1608P). | The Honorable Joseph “Buddy” Pinder III, Mayor, Village of Islamorada, 86800 Overseas Highway, Islamorada, FL 33036. | Building Department 86800 Overseas Highway, Islamorada, FL 33036. | https://msc.fema.gov/portal/advanceSearch. | Oct. 4, 2024 | 120424
Orange | Unincorporated areas of Orange County, (24-04-0781P). | The Honorable Jerry L. Demings, Mayor, Orange County, 201 South Rosalind Avenue, 5th Floor, Orlando, FL 32801. | Orange County, Public Works Department, Stormwater Management Division, 4200 South John Young Parkway, Orlando, FL 32839. | https://msc.fema.gov/portal/advanceSearch. | Oct. 24, 2024 | 120179
Osceola | Unincorporated areas of Osceola County, (24-04-0625P). | Donald Fisher, Osceola County Manager, 1 Courthouse Square, Suite 4700, Kissimmee, FL 34741. | Osceola County Public Works Department, 1 Courthouse Square, Suite 3100, Kissimmee, FL 34741. | https://msc.fema.gov/portal/advanceSearch. | Oct. 25, 2024 | 120189
Osceola | Unincorporated areas of Osceola County, (24-04-2482X). | Donald Fisher, Osceola County Manager, 1 Courthouse Square, Suite 4700, Kissimmee, FL 34741. | Osceola County Public Works Department, 1 Courthouse Square, Suite 3100, Kissimmee, FL 34741. | https://msc.fema.gov/portal/advanceSearch. | Oct. 11, 2024 | 120189
Pasco | Unincorporated areas of Pasco County, (23-04-5310P). | Ron Oakley, Chair, Pasco County Board of Commissioners, 37918 Meridian Avenue, Dade City, FL 33525. | Pasco County Building Construction Services Department, 8661 Citizens Drive, Suite 100, New Port Richey, FL 34654. | https://msc.fema.gov/portal/advanceSearch. | Oct. 3, 2024 | 120230
Indiana:
Lake | Town of Lowell, (23-05-1264P). | Todd Angerman, President, Town of Lowell Council, 501 East Main Street, Lowell, IN 46356. | Town Hall, 501 East Main Street, Lowell, IN 46356. | https://msc.fema.gov/portal/advanceSearch. | Oct. 15, 2024 | 180137
Lake | Unincorporated areas of Lake County, (23-05-1264P). | Christine Cid, President, Lake County Council, 2293 North Main Street, Crown Point, IN 46307. | Lake County Building, 2293 North Main Street, Crown Point, IN 46307. | https://msc.fema.gov/portal/advanceSearch. | Oct. 15, 2024 | 180126
North Carolina:
Durham | City of Durham, (23-04-4657P). | The Honorable Leonardo Williams, Mayor, City of Durham, 101 City Hall Plaza, Durham, NC 27701. | City Hall, 101 City Hall Plaza, Durham, NC 27701. | https://msc.fema.gov/portal/advanceSearch. | Oct. 10, 2024 | 370086
Mecklenburg | City of Charlotte, (22-04-5778P). | The Honorable Vi Alexander Lyles, Mayor, City of Charlotte, 600 East 4th Street, Charlotte, NC 28202. | Stormwater Services Department, 2145 Suttle Avenue, Charlotte, NC 28208. | https://msc.fema.gov/portal/advanceSearch. | Oct. 2, 2024 | 370159
Pennsylvania:
Butler | Township of Adams, (23-03-0933P). | Russell R. Ford, Chair, Township of Adams Board of Supervisors, 690 Valencia Road, Mars, PA 16046. | Township Hall, 690 Valencia Road, Mars, PA 16046. | https://msc.fema.gov/portal/advanceSearch. | Sep. 12, 2024 | 421415
Butler | Township of Middlesex, (23-03-0933P). | Michael Spreng, Chair, Township of Middlesex Board of Supervisors, 133 Browns Hill Road, Valencia, PA 16059. | Township Hall, 133 Browns Hill Road, Valencia, PA 16059. | https://msc.fema.gov/portal/advanceSearch. | Sep. 12, 2024 | 421229
Northampton | Township of Lower Nazareth, (23-03-0866P). | Lori A. Stauffer, Township of Lower Nazareth Manager, 623 Municipal Drive, Nazareth, PA 18064. | Township Hall, 623 Municipal Drive, Nazareth, PA 18064. | https://msc.fema.gov/portal/advanceSearch. | Oct. 24, 2024 | 422253
South Carolina:
Richland | City of Forest Acres, (24-04-0460P). | The Honorable Thomas Andrews, Mayor, City of Forest Acres, 5209 North Trenholm Road, Columbia, SC 29206. | City Hall, 5209 North Trenholm Road, Columbia, SC 29206. | https://msc.fema.gov/portal/advanceSearch. | Oct. 7, 2024 | 450174
Texas:
Bell | City of Temple, (23-06-1405P). | The Honorable Tim Davis, Mayor, City of Temple, 2 North Main Street, Suite 103, Temple, TX 76501. | Engineering Department, 3210 East Avenue H, Building A, Suite 107, Temple, TX 76501. | https://msc.fema.gov/portal/advanceSearch. | Oct. 3, 2024 | 480034
Collin | City of Princeton, (24-06-0140P). | The Honorable Brianna Chacón, Mayor, City of Princeton, 2000 East Princeton Drive, Princeton, TX 75407. | City Hall, 2000 East Princeton Drive, Princeton, TX 75407. | https://msc.fema.gov/portal/advanceSearch. | Oct. 21, 2024 | 480757
Denton | City of Frisco, (23-06-1600P). | The Honorable Jeff Cheney, Mayor, City of Frisco, 6101 Frisco Square Boulevard, Frisco, TX 75034. | City Hall, 6101 Frisco Square Boulevard, Frisco, TX 75034. | https://msc.fema.gov/portal/advanceSearch. | Oct. 7, 2024 | 480134
Denton | Town of Prosper, (23-06-2479P). | The Honorable David F. Bristol, Mayor, Town of Prosper, 250 West 1st Street, Prosper, TX 75078. | Engineering Department, 250 West 1st Street, Prosper, TX 75078. | https://msc.fema.gov/portal/advanceSearch. | Oct. 11, 2024 | 480141
Denton | Unincorporated areas of Denton County, (23-06-2479P). | The Honorable Andy Eads, Denton County Judge, 1 Courthouse Drive, Suite 3100, Denton, TX 76208. | Denton County Development Services Department, 3900 Morse Street, Denton, TX 76208. | https://msc.fema.gov/portal/advanceSearch. | Oct. 11, 2024 | 480774
Ellis | City of Red Oak (24-06-0092P). | The Honorable Mark Stanfill, Mayor, City of Red Oak, P.O. Box 393, Red Oak, TX 75154. | City Hall, 101 South Live Oak Street, Red Oak, TX 75154. | https://msc.fema.gov/portal/advanceSearch. | Nov. 4, 2024 | 481650
Ellis | Unincorporated areas of Ellis County, (23-06-1731P). | The Honorable Todd Little, Ellis County Judge, 101 West Main Street, Waxahachie, TX 75165. | Ellis County Courts and Administration, 109 South Jackson Street, Waxahachie, TX 75165. | https://msc.fema.gov/portal/advanceSearch. | Oct. 15, 2024 | 480798
Ellis | Unincorporated areas of Ellis County, (24-06-0092P). | The Honorable Todd Little, Ellis County Judge, 101 West Main Street, Waxahachie, TX 75165. | Ellis County Courts and Administration, 109 South Jackson Street, Waxahachie, TX 75165. | https://msc.fema.gov/portal/advanceSearch. | Nov. 4, 2024 | 480798
Kaufman | City of Terrell (24-06-0327P). | The Honorable E. Rick Carmona, Mayor, City of Terrell, P.O. Box 310, Terrell, TX 75160. | City Hall, 201 East Nash Street, Terrell, TX 75160. | https://msc.fema.gov/portal/advanceSearch. | Oct. 15, 2024 | 480416
Tarrant | City of Fort Worth, (23-06-2360P). | The Honorable Mattie Parker, Mayor, City of Fort Worth, 200 Texas Street, Fort Worth, TX 76102. | Transportation and Public Works Department, Engineering Vault, 200 Texas Street, Fort Worth, TX 76102. | https://msc.fema.gov/portal/advanceSearch. | Oct. 21, 2024 | 480596
Tarrant | City of Haltom City, (23-06-2452P). | The Honorable An Truong, Mayor, City of Haltom City, 5024 Broadway Avenue, Haltom City, TX 76117. | Public Works Department, 4200 Hollis Street, Haltom City, TX 76111. | https://msc.fema.gov/portal/advanceSearch. | Oct. 21, 2024 | 480599

[FR Doc. 2024-16956 Filed 7-31-24; 8:45 am]

BILLING CODE 9110-12-P